DEPARTMENT OF THE INTERIOR

National Park Service

Draft Commercial Services Plan and Draft Environmental Impact Statement, Glacier National Park, MT

AGENCY: National Park Service, Department of the Interior.

ACTION: Notice of availability of the Draft Environmental Impact Statement for the Draft Commercial Services Plan, Glacier National Park.

SUMMARY: Pursuant to the National Environmental Policy Act of 1969, 42 U.S.C. 4332(C), the National Park Service announces the availability of the Draft Environmental Impact Statement for the Draft Commercial Services Plan, Glacier National Park, Montana.

DATES: The National Park Service will accept comments on the Draft Environmental Impact Statement from the public through July 7, 2003. The schedule for public meetings will be announced separately.

ADDRESSES: Information will be available for public review and comment in the office of the Superintendent, and at the following locations.

Office of the Superintendent, Glacier National Park, West Glacier, MT 59936, (406) 888-7901.

Glacier National Park, Hudson Bay District Office, St. Mary, MT 59417, (406) 732-7707.

Project Management Office, Glacier National Park, West Glacier, MT 59936, (406) 888-7972.

Planning and Environmental Quality, Intermountain Support Office—Denver, National Park Service, PO Box 25287, Denver, CO 80225-0287, (303) 969-2851 or 2377.

Office of Public Affairs, National Park Service, Department of Interior, 18th and C Streets NW., Washington, DC 20240, (202) 208-6843.

Bozeman Public Library, 220 East Lamme, Bozeman, MT 59715.

Browning Public Library, PO Box 550, Browning, MT 59417.

Butte County Library, 226 W. Broadway, Butte, MT 59701.

Cardston Public Library, 25 3rd Avenue West, Cardston, Alberta Canada TOK OKO.

Choteau Public Library, 17 North Main Avenue, Choteau, MT 59422.

Columbia Falls Branch Library, 120 6th Street West, Columbia Falls, MT 59912.

Cut Bank Library, 21 1st Avenue SE., Cut Bank, MT 59427.

Flathead County Library, 247 1st Avenue East, Kalispell, MT 59901.

Great Falls Public Library, 301 2nd Avenue North, Great Falls, MT 59401.

Lethbridge Public Library, 810-5 Avenue South, Lethbridge, Alberta, Canada T1J 4C4.

Lewis and Clark Library, 120 South Last Chance Gulch, Helena, MT 59624.

Missoula Public Library, 301 East Main, Missoula, MT 59802.

Parmly Billings Library, 501 North Broadway, Billings, MT 59101.

Pincher Creek Municipal Library, 895 Main Street, Pincher Creek, Alberta, Canada TOK 1WO.

Waterton Lakes National Park, Park Administration Building, 215 Mountain View Road, Alberta, Canada TOK 2MO.

Whitefish Branch Library, 9 Spokane Avenue, Whitefish, MT 59937.

FOR FURTHER INFORMATION CONTACT: Mary Riddle, Glacier National Park, 406-888-7898.

SUPPLEMENTARY INFORMATION: If you wish to comment, you may submit your comments by any one of the several methods. You may mail comments to Glacier National Park, Attn: CSP/DEIS, West Glacier, MT 59936. You may also comment via the Internet to glac_public_comments@nps.gov. Please submit Internet comments as an ASCII file avoiding the use of special characters and any form of encryption. Please also include “Attn: CSP/DEIS” and your name and return address in your Internet message. If you do not receive a confirmation from the system that we have received your Internet message, contact us directly at Project Management Office, 406-888-7972. Finally, you may hand-deliver comments to Glacier National Park, Going-to-the-Sun Road, West Glacier, MT. Our practice is to make comments, including names and home addresses of respondents, available for public review during regular business hours. Individual respondents must request that we withhold their home address from the record, which we will honor to the extent allowable by law. There may also be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: April 14, 2003.
Michael D. Synder,
Director, Intermountain Region, National Park Service.

[FR Doc. 03-11269 Filed 5-6-03; 8:45 am]

BILLING CODE 4312-HX-P